DEPARTMENT OF HEALTH AND HUMAN SERVICES

National Institutes of Health

Center for Scientific Review; Amended Notice of Meeting

Notice is hereby given of a change in the meeting of the Integrative Nutrition and Metabolic Processes Study Section, February 8, 2018, 8:00 a.m. to February 9, 2018, 1:00 p.m., Westin Grand, 2350 M Street NW, Washington, DC 20037 which was published in the Federal Register on January 05, 2018, 83 FR 682.

The meeting will be held on February 7, 2018, 5:00 p.m. and end on February 8, 2018, 6:00 p.m. The meeting location remains the same. The meeting is closed to the public.

Dated: January 30, 2018.
Sylvia L. Neal,
Program Analyst, Office of Federal Advisory Committee Policy.

[FR Doc. 2018-02151 Filed 2-2-18; 8:45 am]

BILLING CODE 4140-01-P